DEPARTMENT OF DEFENSE

Office of the Secretary

[Docket ID DoD-2008-HA-0139]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 23, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to TRICARE Management Activity Dental Care Branch, 5111 Leesburg Pike, Skyline 5, Attn: CAPT Robert Mitton, Falls Church, VA 22041, or call the TRICARE Management Activity Dental Care Branch, at 703-681-0039.

Title; Associated Form; and OMB Number: Active Duty Dental Program Claim Form; OMB Control Number 0720-TBD.

Needs and Uses: The information collection requirement is necessary to obtain and record the dental readiness of Service Members using the Active Duty Dental Program and at the same time submit the claim for the dental procedures provided so that claims can be processed and reimbursement made to the provider. Many of these Service Members are not located near a military dental treatment facility and receive their dental care in the private sector. The new form is needed to update the dental readiness of all Service Members so that they can maintain worldwide deployment status and reduces paperwork by combining the dental claim and dental readiness into one form.

Affected Public: Private Sector Dentists participating in the Active Duty Dental Program.

Annual Burden Hours: 737,500.

Number of Respondents: 59,000 (ADDP network is 59,000 dentists).

Responses per Respondent: 1-500.

Average Burden per Response: 3 minutes.

Frequency: On occasion.

SUPPLEMENTARY INFORMATION:

Summary of Information Collection

Respondents are dental professionals who are participating providers in the Active Duty Dental Program (ADDP). The ADDP Claim form allows civilian dental providers to submit the claim for dental procedures provided to active duty service members and to update their dental readiness classification at the same time. The completed form is forwarded to the ADDP contractor, United Concordia Companies, Inc. for reimbursement and the electronic update of the dental readiness. If the form is not available, civilian providers will not have a mechanism to update dental readiness for this dental program. Dental readiness classification allows the Services to ensure that all Service Members are ready for worldwide deployment. Dental readiness is an integral part of medical readiness, and medical readiness is fundamental to the readiness of our forces.

September 4, 2009.
Patricia L. Toppings,
OSD Federal Register Liaison Officer, Department of Defense.

[FR Doc. E9-22785 Filed 9-21-09; 8:45 am]

BILLING CODE 5001-06-P